DEPARTMENT OF LABOR

Employment and Training Administration

[TA-W-52,274]

Thomson, Inc., Circlesville Glass Operations, Circleville, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a certification of eligibility to apply for Trade Adjustment Assistance (TAA) on August 7, 2003, applicable to workers and former workers of Thomson, Inc., Circleville Glass Operations, Circleville, Ohio. The Department's Notice was published in the Federal Register on September 2, 2003 (68 FR 52228). The workers were engaged in the production of glass components of picture tubes prior to the subject firm's closure in June 2004.

On March 8, 2005, the Department issued a certification of eligibility for Alternative Trade Adjustment Assistance (ATAA) covering workers of the subject firm separated from employment on or after June 27, 2002 through August 7, 2005. The Department's Notice was published in the Federal Register on April 1, 2005 (70 FR 16851).

Even though production activity ceased in June 2004, the State of Ohio required the subject firm to submit within ninety days a cessation of operations plan and to undertake an 18-month process for the identification and remediation of any hazards left over from the manufacturing process. At the time of the shutdown, the subject firm retained fifteen employees (“shutdown workers”) solely for purposes of the shutdown process.

The shutdown workers subsequently petitioned for TAA/ATAA benefits (TA-W-59,118), referring to TA-W-52,274 for support. The Department determined in TA-W-59,118 that the shutdown workers were ineligible for benefits because there was no production at the subject facility during the relevant period. The petitioners appealed the Department's negative determination to the U.S. Court of International Trade (Court No. 06-00266). The Department subsequently obtained a voluntary remand for the purpose of further review and a redetermination of the workers' eligibility to apply for worker adjustment assistance.

During the ensuing remand process for TA-W-59,118, the Department determined that there was a causal nexus between the subject firm's shutdown of operations and the shutdown workers' separations and that, therefore, the separations of the workers through December 31, 2006 are attributable to the conditions specified in section 222 of the Trade Act. The Department has further determined that, given the particular facts presented, it is appropriate to amend the certification of the immediate petition to include those workers involved in cessation of operations activities who were separated after August 7, 2005.

The Department's decision in this case is limited to the precise circumstances of this specific case and should not be considered as any indication of how the Department would proceed in other cases or in any subsequent rulemaking on this subject.

The amended notice applicable to TA-W-52,274 is hereby issued as follows:

“All workers of Thomson, Inc., Circleville Glass Operations, Circleville, Ohio (TA-W-52,274), who became totally or partially separated from employment on or after June 27, 2002 through December 31, 2006, are eligible to apply for adjustment assistance under Section 223 of the Trade Act of 1974, and are also eligible to apply for alternative trade adjustment assistance under Section 246 of the Trade Act.”

Signed at Washington, DC, this 25th day of January 2007.
Linda G. Poole,
Certifying Officer, Division of Trade Adjustment Assistance.

[FR Doc. E7-1954 Filed 2-6-07; 8:45 am]

BILLING CODE 4510-FN-P